LIBRARY OF CONGRESS

Copyright Office

37 CFR Part 201

[Docket No. RM 2000-4A]

Public Performance of Sound Recordings: Definition of a Service

AGENCY: Copyright Office, Library of Congress.

ACTION: Extension of reply comment period.

SUMMARY: The Copyright Office of the Library of Congress is extending the period for filing reply comments in the proceeding to consider the merits of a petition filed by the Digital Media Association. The petition seeks a determination that a webcasting service is not deemed to be interactive merely because it offers the consumer some degree of influence over the programming offered by the service.

DATES: Written reply comments are due on July 14, 2000.

ADDRESSES: If sent by mail, an original and ten copies of the reply comments should be addressed to: Copyright Arbitration Royalty Panel (CARP), P.O. Box 70977, Southwest Station, Washington, DC 20024. If hand delivered, the reply comments, they should be brought to: Office of the General Counsel, James Madison Building, Room LM-403, First and Independence Ave., SE., Washington, DC 20559-6000.

FOR FURTHER INFORMATION CONTACT: David O. Carson, General Counsel, or Tanya M. Sandros, Attorney Advisor, Copyright GC/I&R, P.O. Box 70400, Southwest Station, Washington, D.C. 20024. Telephone: (202) 707-8380. Telefax: (202) 707-8366.

SUPPLEMENTARY INFORMATION:

Background

On May 23, 2000, the Copyright Office published a notice of inquiry seeking comments on whether to grant a petition for rulemaking filed with the Copyright Office on April 17, 2000, by the Digital Media Association (DiMA). 65 FR 33266 (May 23, 2000). The petition requests that the Office adopt a rule stating that a webcasting service does not become an interactive service because a consumer exerts some degree of influence over the streamed programming.

Comments in response to the notice of inquiry were filed on June 22, 2000. Two parties filed comments in this proceeding, the Recording Industry Association of America, Inc. and DiMA. On June 30, 2000, DiMA filed a request for an extension of the filing date for reply comments from the initially announced date of July 7, 2000, to July 14, 2000. DiMA asserts that it is in need of more time to develop a meaningful response because the intervening four-day Fourth of July holiday creates logistical difficulties for it and its members. DiMA also suggests that an extension of the filing deadline by a week will create no prejudice to any party interested in filing a reply in this proceeding.

The Office agrees and, therefore, grants the request for a one-week extension of the reply comment filing period. Reply comments are now due on Friday, July 14, 2000.

Dated: June 30, 2000.
David O. Carson,
General Counsel.

[FR Doc. 00-17109 Filed 7-5-00; 8:45 am]

BILLING CODE 1410-31-P